ENVIRONMENTAL PROTECTION AGENCY

[FRL: 11437-01-OA]

Local Government Advisory Committee (LGAC) and Small Communities Advisory Subcommittee (SCAS) Meeting

AGENCY: Environmental Protection Agency (EPA).

ACTION: Notice of public meeting.

SUMMARY: Pursuant to the Federal Advisory Committee Act (FACA), EPA herby provides notice of a meeting for the Local Government Advisory Committee (LGAC) on the date and time described below. This meeting will be open to the public. For information on public attendance and participation, please see registration details under SUPPLEMENTARY INFORMATION.

DATES: The LGAC will meet on Monday October 23 from 9:00 a.m. to 5:00 p.m. Central Standard Time.

FOR FURTHER INFORMATION CONTACT: Paige Lieberman, Designated Federal Officer (DFO), at LGAC@epa.gov or 202-564-9957 Information on Accessibility: For information on access or services for individuals requiring accessibility accommodations, please contact Paige Lieberman by email at LGAC@epa.gov. To request accommodation, please do so five (5) business days prior to the meeting, to give EPA as much time as possible to process your request.

SUPPLEMENTARY INFORMATION:

Content

The LGAC will discuss draft recommendations on environmental justice and implementation of the Greenhouse Gas Reduction Fund; meet with the EPA regional office and state municipal leagues to discuss ways to improve strategic communications; and discuss new charges related to climate change and waste management.

Registration

The meeting will be held in person at the Madison Concourse Hotel, 1 W Dayton St., Madison, WI 53703. Participation via videoconference will also be available. Members of the public who wish to participate should register by contacting the Designated Federal Officer (DFO) at LGAC@epa.gov by October 20th, 2023. The agenda and other meeting materials will be available online one week prior at https://www.epa.gov/ocir/local-government-advisory-committee-lgac, and will be emailed to all registered. In the event of cancellation for unforeseen circumstances, please contact the DFO or check the website above for reschedule information.

Paige Lieberman,
Designated Federal Officer, Environmental Protection Agency.

[FR Doc. 2023-21909 Filed 10-3-23; 8:45 am]

BILLING CODE 6560-50-P